DEPARTMENT OF HEALTH AND HUMAN SERVICES

National Institutes of Health

National Institute on Drug Abuse; Notice of Closed Meetings

Pursuant to section 10(d) of the Federal Advisory Committee Act, as amended (5 U.S.C. App), notice is hereby given of the following meetings.

The meetings will be closed to the public in accordance with the provisions set forth in sections 552b(c)(4) and 552b(c)(6), Title 5 USC, as amended. The grant applications and the discussions could disclose confidential trade secrets or commercial property such as patentable materials, and personal information concerning individuals associated with the grant applications, the disclosure of which would constitute a clearly unwarranted invasion of personal privacy.

Name of Committee: National Institute on Drug Abuse Special Emphasis Panel, 2011 NIDA Avant-Garde Award Program for HIV/AIDS Research (DP1).

Date: June 28, 2011.

Time: 8:30 a.m. to 5 p.m.

Agenda: To review and evaluate grant applications.

Place: Westin Alexandria, 400 Courthouse Square, Alexandria, VA 22314.

Contact Person: Nadine Rogers, PhD, Scientific Review Administrator, Office of Extramural Affairs, National Institute on Drug Abuse, NIH, DHHS, Room 4229, MSC 9550, 6001 Executive Blvd., Bethesda, MD 20892-9550, 301-402-2105, rogersn2@nida.nih.gov.

Name of Committee: National Institute on Drug Abuse Special Emphasis Panel, R01 and R34 Review.

Date: June 30, 2011.

Time: 11 a.m. to 2 p.m

Agenda: To review and evaluate grant applications.

Place: National Institutes of Health, Neuroscience Center, 6001 Executive Boulevard, Rockville, MD 20852, (Telephone Conference Call).

Contact Person: Nataly Strunnikova, PhD, Scientific Review Officer, Office of Extramural Affairs, National Institute on Drug Abuse, NIH, DHHS, Room 4237, MSC 9550, 6001 Executive Blvd., Bethesda, MD 20892-9550, 301-402-0288, strunnikovan@nei.nih.gov.

Name of Committee: National Institute on Drug Abuse Special Emphasis Panel, Medication Initiative for Tobacco Dependence (MITD): A New Product Development Partnership (PDP) (UH2/UH3).

Date: July 7, 2011.

Time: 8 a.m. to 5:30 p.m.

Agenda: To review and evaluate grant applications.

Place: Hyatt Regency Bethesda, One Bethesda Metro Center, 7400 Wisconsin Avenue, Bethesda, MD 20814.

Contact Person: Gerald L. McLaughlin, PhD, Scientific Review Officer, Office of Extramural Affairs, National Institute on Drug Abuse, NIH, DHHS, Room 4238, MSC 9550, 6001 Executive Blvd., Bethesda, MD 20892-9550, 301-402-6626, gm145a@nih.gov.

(Catalogue of Federal Domestic Assistance Program Nos.: 93.279, Drug Abuse and Addiction Research Programs, National Institutes of Health, HHS)

Dated: June 9, 2011.
Jennifer S. Spaeth,
Director, Office of Federal Advisory Committee Policy.

[FR Doc. 2011-14868 Filed 6-15-11; 8:45 am]

BILLING CODE 4140-01-P